DEPARTMENT OF COMMERCE

National Oceanic and Atmospheric Administration

[RTID 0648-XA151]

North Pacific Fishery Management Council; Public Meeting

AGENCY: National Marine Fisheries Service (NMFS), National Oceanic and Atmospheric Administration (NOAA), Commerce.

ACTION: Notice of meeting.

SUMMARY: The North Pacific Fishery Management Council's (Council) Fishery Monitoring Advisory Committee (FMAC) will meet May 19, 2020.

DATES: The meeting will be held on Tuesday, May 19, 2020, from 8 a.m. to 4 p.m., Alaska Daylight Time.

ADDRESSES: The meeting will be a webconference. Join online through the link at https://meetings.npfmc.org/Meeting/Details/1464.

Council address: North Pacific Fishery Management Council, 1007 W 3rd Ave, Anchorage, AK 99501-2252; telephone: (907) 271-2809. Instructions for attending the meeting are given under SUPPLEMENTARY INFORMATION below.

FOR FURTHER INFORMATION CONTACT: Kate Haapala, Council staff; email: kate.haapala@noaa.gov. For technical support please contact Maria Davis, Council staff, email: maria.davis@noaa.gov.

SUPPLEMENTARY INFORMATION:

Agenda

Tuesday, May 19, 2020

The May 2020 FMAC meeting will focus on COVID-19 issues related to observer deployment and data collection in the full and partial coverage fleets, providing a forum for dialogue among multiple stakeholders and agency staff to address challenges. The agenda will include: (a) Introduction and updates since the last FMAC meeting; (b) observer deployment and sampling protocols related to COVID-19; (c) vessel inspection updates; (d) discussion of full and partial coverage issues; (e) the 2021 Annual Deployment Plan and 2019 Annual Report; and (f) other business.

The agenda is subject to change, and the latest version will be posted at https://meetings.npfmc.org/Meeting/Details/1464 prior to the meeting, along with meeting materials.

Connection Information

You can attend the meeting online using a computer, tablet, or smart phone; or by phone only. Connection information will be posted online at: https://meetings.npfmc.org/Meeting/Details/1464.

Public Comment

Public comment letters will be accepted and should be submitted electronically to https://meetings.npfmc.org/Meeting/Details/1464.

Special Accommodations

The meeting is physically accessible to people with disabilities. Requests should be directed to Shannon Gleason at (907) 271-2809 at least 7 working days prior to the meeting date.

Authority: 16 U.S.C. 1801 et seq.

Dated: April 28, 2020.
Tracey L. Thompson,
Acting Deputy Director, Office of Sustainable Fisheries, National Marine Fisheries Service.

[FR Doc. 2020-09383 Filed 4-30-20; 8:45 am]

BILLING CODE 3510-22-P